DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (OFAC) is publishing the names of three individuals and two entities whose property and interests in property have been unblocked pursuant to the Foreign Narcotics Kingpin Designation Act (Kingpin Act) (21 U.S.C. Sections 1901-1908, 8 U.S.C. Section 1182).

DATES: The unblocking and removal from the list of Specially Designated Nationals and Blocked Persons (SDN List) of the three individuals and two entities identified in this notice whose property and interests in property were blocked pursuant to the Kingpin Act, is effective on September 30, 2014.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On September 30, 2014, the Director of OFAC removed from the SDN List the three individuals and three entities listed below, whose property and interests in property were blocked pursuant to the Kingpin Act:

Individuals

1. GALEANO JEREZ, Nohora, c/o ADN CONSULTORES LTDA., Bogota, Colombia; DOB 17 Sep 1968; Cedula No. 51918595 (Colombia) (individual) [SDNTK].

2. ISAZA ALVAREZ, Carlos Arturo; DOB 15 Aug 1947; Cedula No. 8281272 (Colombia) (individual) [SDNTK] (Linked To: COMERCIALIZADORA AUTOMOTORA MATECANA LTDA.; Linked To: COMERCIALIZADORA EL PROVEEDOR LTDA.; Linked To: INVERSIONES BUENOS AIRES LTDA.; Linked To: INVERSIONES Y DISTRIBUCIONES COLOMBIANAS EL OASIS LTDA.; Linked To: PROVEEDORES Y DISTRIBUIDORES NACIONALES S.A.).

3. SANCHEZ PUENTES, Yenny Mabel, c/o DOLPHIN DIVE SCHOOL S.A., Cartagena, Colombia; c/o INVERPUNTO DEL VALLE S.A., Cali, Colombia; Calle 140 No. 6-30 Int. 9 Ap. 201, Bogota, Colombia; Calle 187 54-55 Int. 21 Ap. 201, Bogota, Colombia; c/o CBM DE COLOMBIA S.A., Bogota, Colombia; c/o R D I S.A., Bogota, Colombia; DOB 19 Dec 1967; POB Otanche, Boyaca, Colombia; Cedula No. 51908699 (Colombia); Passport AH982263 (Colombia) (individual) [SDNTK].

Entities

1. ADN CONSULTORES LTDA., Calle 58 No. 20-45 P 3, Bogota, Colombia; NIT # 830109795-8 (Colombia) [SDNTK].

2. GRUPO STA CHIHUAHUA, S.A. DE C.V. (a.k.a. MAILCO), Lateral Blvd. Periferico Ortiz Mena No. 2409, Col. Quinta Sol, Chihuahua, Chihuahua 31214, Mexico; R.F.C. GSC02086417 (Mexico); alt. R.F.C. GSC0208264IF (Mexico) [SDNTK].

Dated: September 30, 2014.
John Smith,
Acting Director, Office of Foreign Assets Control.

[FR Doc. 2014-24054 Filed 10-8-14; 8:45 am]

BILLING CODE 4810-AL-P